GENERAL SERVICES ADMINISTRATION

[OMB Control No. 3090-XXXX; Docket No. 2019-0001; Sequence No. 11]

Submission for OMB Review; Improving Customer Experience—Implementation of Section 280 of OMB Circular A-11

AGENCY: General Services Administration.

ACTION: Notice and request for comments.

SUMMARY: As part of the Administration's commitment to improving customer service delivery, the General Services Administration (GSA), is coordinating the government wide development of the following proposed Information Collection Request “Improving Customer Experience—Implementation of Section 280 of OMB Circular A-11” for approval under the Paperwork Reduction Act. This notice announces GSA will be submitting on this collection to OMB for approval and solicits comments on specific aspects of the proposed information collection.

DATES: Submit comments on or before: October 15, 2019.

ADDRESSES: Submit comments identified by Information Collection 3090-XXXX, Improving Customer Experience (A-11, Section 280), by any of the following methods:

• Federal eRulemaking portal: https://www.regulations.gov. Follow the instructions for submitting comments. Comments submitted electronically, including attachments to https://www.regulations.gov, will be posted to the docket unchanged.

• Mail: General Services Administration, Regulatory Secretariat Division (MVCB), 1800 F Street NW, Washington, DC 20405. ATTN: Ms. Mandell/IC 3090-XXXX, Improving Customer Experience, A-11, Section 280.

Instructions: Please submit comments only and cite Information Collection 3090-XXXX, Improving Customer Experience, in all correspondence related to this collection. To confirm receipt of your comment(s), please check regulations.gov, approximately two-to-three business days after submission to verify posting (except allow 30 days for posting of comments submitted by mail).

FOR FURTHER INFORMATION CONTACT: Requests for additional information should be directed to Amira Boland, Office of Government-wide Policy, 1800 F ST NW, Washington, DC 20405, or via email to amira.boland@gsa.gov.

SUPPLEMENTARY INFORMATION: Title: Improving Customer Experience, (A-11, Section 280)

Abstract: A modern, streamlined and responsive customer experience means: Raising government-wide customer experience to the average of the private sector service industry; developing indicators for high-impact Federal programs to monitor progress towards excellent customer experience and mature digital services; and providing the structure (including increasing transparency) and resources to ensure customer experience is a focal point for agency leadership.

This proposed information collection activity provides a means to garner customer and stakeholder feedback in an efficient, timely manner in accordance with the Administration's commitment to improving customer service delivery as discussed in Section 280 of OMB Circular A-11 at https://www.whitehouse.gov/wp-content/uploads/2018/06/s280.pdf.

Section 280.7 established seven domains for measuring customer experience.

• Overall: (1) Satisfaction, (2) Confidence/Trust

• Service: (3) Quality

• Process: (4) Ease/Simplicity, (5) Efficiency/Speed, (6) Equity/Transparency

• People: (7) Employee Helpfulness

All High Impact Service Providers listed at https://www.performance.gov/cx/HISPList.pdf are required to ask questions in these domains of their customers. However, all agencies are encouraged to conduct their customer experience measurement in line with these standard measures.

As discussed in OMB guidance, agencies should identify their highest-impact customer journeys (using customer volume, annual program cost, and/or knowledge of customer priority as weighting factors) and select touchpoints/transactions within those journeys to collect feedback. For the purposes of this collection, Federal customer experience will focused on real-time transaction-level measures

The results will be used to improve the delivery of Federal services and programs. It will also provide government-wide data on customer experience that can be displayed on www.performance.gov to help build transparency and accountability of Federal programs to the customers they serve.

For reference, sample proposed questions (also available on www.performance.gov) are below. All are on a Likert Scale from 1 to 5 (1=strongly disagree to 5=strongly agree) except free text questions).

[Landing Page]

1. I am satisfied with the service I received from [Program/Service name].)

2. This interaction increased my confidence in [Program/Service name]. OR I trust [Agency/Program/Service name] to fulfill our country's commitment to [relevant population].

3. Anything you want to tell us about your scores above? (free text)

4. Would you like to take two more minutes to answer five more questions to help us improve our services? (Y/N)

[Page 2 if respondent answered Y—programs will select what is applicable to them]

5. My need was addressed.

6. It was easy to complete what I needed to do.

7. It took a reasonable amount of time to do what I needed to do.

8. I was treated fairly.

9. Employees I interacted with were helpful.

10. Which service center did you visit today? OR “which service did you call about today?”

11. Anything else you'd like to share with us? (free text)

A notice published in the Federal Register at 84 FR 31868, on July 3, 2019. No comments were received. Upon OMB approval of the collection, GSA will submit collections on behalf of the following agencies for approval: Department of Agriculture, Department of Commerce, Department of Defense, Department of Education, Department of Energy, Department of Health and Human Services, Department of Homeland Security, Department of Housing and Urban Development, Department of the Interior, Department of Justice, Department of Labor, Department of State, United States Agency for International Development, the General Services Administration, Department of Transportation, Department of the Treasury, Department of Veterans Affairs, Environmental Protection Agency, National Aeronautics and Space Administration, the Consumer Financial Protection Bureau, National Science Foundation, Nuclear Regulatory Commission, the Small Business Administration, the Office of Personnel Management, and Social Security Administration.

As a general matter, these information collections will not result in any new system of records containing privacy information and will not ask questions of a sensitive nature, such as sexual behavior and attitudes, religious beliefs, and other matters that are commonly considered private.

GSA will only submit collections if they meet the following criteria.

• The collections are voluntary;

• The collections are low-burden for respondents (based on considerations of total burden hours or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary and is not retained;

• Information gathered is intended to be used for general service improvement and program management purposes;

• Upon agreement between OMB and the agency collecting the information, all or a subset of information may be released only on performance.gov. Release of any other data must be discussed with OMB before release.

Public responses to these individual collections will provide insights in improving services offered to the public. If this information is not collected, vital feedback from customers and stakeholders on services will be unavailable.

Current Action: New Collection of Information.

Type of Review: New.

Affected Public: Individuals and Households, Businesses and Organizations, State, Local or Tribal Government.

Estimated Number of Respondents: Below is a preliminary estimate of the aggregate burden hours for this new collection. GSA will provide refined estimates of burden in subsequent notices.

Average Expected Annual Number of Activities: Approximately 50 customer feedback surveys.

Average Number of Respondents per Activity: Range varies greatly depending on Federal Service.

Annual Responses: Approximately 40,000,000.

Average Minutes per Response: 3 minutes.

Burden Hours: 2,000,000.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection on regulations.gov. An agency may not conduct or sponsor, and a person is not required to respond to, a collection of information unless it displays a currently valid Office of Management and Budget control number.

Dated: September 5, 2019.
David A. Shive,
Chief Information Officer.

[FR Doc. 2019-19861 Filed 9-12-19; 8:45 am]

BILLING CODE 6820-34-P